DEPARTMENT OF THE INTERIOR

Bureau of Land Management

[Docket No. OR-957-00-1420-BJ: GP01-0171]

Filing of Plats of Survey: Oregon/Washington

AGENCY: Bureau of Land Management, Interior.

ACTION: Notice.

SUMMARY: The plats of survey of the following described lands were officially filed in the Oregon State Office, Portland, Oregon, on March 12, 2001.

Willamette Meridian

Oregon

T. 30 S., R. 5 W., accepted March 30, 2001

T. 27 S., R. 3 W., accepted March 30, 2001

T. 27 S., R. 4 W., accepted March 30, 2001

T. 13 S., R. 8 W., accepted April 4, 2001

T. 23 S., R. 7 W., accepted April 6, 2001

Washington

T. 11 N., R. 19 E., accepted February 12, 2001

T. 15 N., R. 4 W., accepted March 15, 2001

Copies of the plat(s) may be obtained from the Oregon State Office, Bureau of Land Management, 1515 SW. 5th Avenue, Portland, Oregon 97201, upon required payment. A person or party who wishes to protest against a survey must file with the State Director, Bureau of Land Management, Portland, Oregon, a notice that they wish to protest.

The above-listed plats represent dependent resurveys, a survey, and subdivision.

FOR FURTHER INFORMATION CONTACT: Bureau of Land Management, (1515 SW. 5th Avenue) P.O. Box 2965, Portland, Oregon 97208.

Dated: April 19, 2001.
Robert D. DeViney, Jr.,
Branch of Realty and Records Services.

[FR Doc. 01-11693 Filed 5-8-01; 8:45 am]

BILLING CODE 4310-33-M